DEPARTMENT OF TRANSPORTATION

Federal Aviation Administration

14 CFR Part 39

[Docket No. FAA-2015-0937; Directorate Identifier 2014-NM-024-AD]

RIN 2120-AA64

Airworthiness Directives; Airbus Airplanes

AGENCY: Federal Aviation Administration (FAA), DOT.

ACTION: Notice of proposed rulemaking (NPRM).

SUMMARY: We propose to supersede Airworthiness Directive (AD) 2011-24-05, for certain Airbus Model A330-201, -202, -203, -223, -243, -301, -302, -303, -321, -322, -323, -341, -342, and -343 airplanes; and Model A340-200 and -300 series airplanes. AD 2011-24-05 currently requires repetitive inspections for cracking of the hole(s) of the horizontal flange of the keel beam, and repair if necessary. Since we issued AD 2011-24-05, a determination was made that the rototest inspection and applicable corrective actions of a certain fastener hole were inadvertently omitted from the requirements in that AD. This proposed AD would change the inspection compliance times, and, for certain airplanes, would add a one-time ultrasonic inspection for cracking at a certain fastener hole. This proposed AD would also provide optional terminating action for the repetitive inspections. We are proposing this AD to detect and correct cracking of the fastener holes, which could result in rupture of the keel beam, and consequent reduced structural integrity of the airplane.

DATES: We must receive comments on this proposed AD by June 18, 2015.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0937; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2015-0937; Directorate Identifier 2014-NM-024-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On November 7, 2011, we issued AD 2011-24-05, Amendment 39-16869 (76 FR 73496, November 29, 2011), for certain Airbus Model A330-201, -202, -203, -223, -243, -301, -302, -303, -321, -322, -323, -341, -342, and -343 airplanes; and Model A340-200 and -300 series airplanes. AD 2011-24-05 requires actions intended to address the unsafe condition on the products listed above.

Since we issued AD 2011-24-05, Amendment 39-16869 (76 FR 73496, November 29, 2011), the European Aviation Safety Agency (EASA), which is the Technical Agent for the Member States of the European Union, has issued EASA Airworthiness Directive 2014-0010R1, dated May 5, 2014 (referred to after this as the Mandatory Continuing Airworthiness Information, or “the MCAI”), to correct an unsafe condition for certain Airbus Model A330-201, -202, -203, -223, -243, -301, -302, -303, -321, -322, -323, -341, -342, and -343 airplanes; and Model A340-200 and -300 series airplanes. The MCAI states:

During A330 and A340 aeroplanes fatigue tests, cracks were detected on the RH [right-hand] and LH [left-hand] sides between the crossing area of the keel beam fitting and the front spar of the Centre Wing Box (CWB).

This condition, if not detected and corrected, could lead to keel beam rupture which would affect the area structural integrity of the area.

Prompted by this potential unsafe condition, EASA issued AD 2006-0315 [http://ad.easa.europa.eu/blob/easa_ad_2006_0315.pdf/AD_2006-0315] (later revised to R1) to require repetitive special detailed inspections (SDI) [rotating probe inspection for cracking] on the horizontal flange of the keel beam in the area of first fastener hole aft of Frame (FR) 40 in order to maintain the structural integrity of the aeroplane.

After that [EASA] AD was issued, EASA issued AD 2010-0024 [which corresponds to FAA AD 2011-24-05, Amendment 39-16869 (76 FR 73496, November 29, 2011)], retaining the inspection requirements of EASA AD 2006-0315R1 [http://ad.easa.europa.eu/blob/easa_ad_2006_0315R1.pdf/AD_2006-0315R1], which was superseded, extending the applicability to aeroplanes with Airbus Mod 49202 embodied, and reducing the inspection thresholds and intervals.

Since that [EASA] AD [2010-0024] was issued, a new fatigue and damage tolerance evaluation has been conducted by Airbus, which concluded that due to the aeroplane utilization, the current inspection threshold and intervals have to be modified.

In addition, it was determined that the rototest inspection of fastener hole Nr 6, necessary to ensure that no crack was left unrepaired at the time of fastener hold cold working, was inadvertently not included in Revisions 01 and 02 of both Airbus Service Bulletin (SB) A330-57-3098 and A340-57-4106.

Prompted by these findings, EASA issued AD 2014-0010 [http://ad.easa.europa.eu/blob/easa_ad_2014-0010.pdf/AD_2014-0010], retaining the requirements of EASA AD 2010-0024, which was superseded, and redefined the inspection thresholds and intervals [by reducing certain compliance times], and added a one-time ultrasonic inspection of fastener hold Nr 6 in the junction keel beam fitting at FR40 on both LH and RH side[s].

Following issuance of EASA AD 2014-0010, it was identified that there was a need for clarifications [of affected airplanes] * * *.

The compliance times vary depending on airplane utilization and configuration. The earliest compliance time for the initial rotating probe inspections is the later of (1) before 10,400 total flight cycles or 67,800 total flight hours, whichever occurs first; and (2) within 24 months or 14,590 flight cycles or 43,790 flight hours, whichever occurs first. The latest compliance time for the initial inspections is the later of (1) before 20,800 total flight cycles or 67,900 total flight hours, whichever occurs first; and (2) within 24 months or 21,180 flight cycles or 63,560 flight hours, whichever occurs first. The compliance times for the repetitive intervals range between 7,800 flight cycles or 50,900 flight hours and 10,700 flight cycles or 35,200 flight hours. The compliance times for the one-time ultrasonic inspection are the latest of (1) 21,000 flight cycles or 60,600 flight hours and within 2,400 flight cycles or 24 months; or the latest of (2) 22,100 flight cycles and 64,400 flight hours, or within 1,300 flight cycles or 24 months.

You may examine the MCAI in the AD docket on the Internet at http://www.regulations.gov by searching for and locating Docket No. FAA-2015-0937.

Related Service Information Under 1 CFR Part 51

Airbus has issued the following service information.

• Airbus Service Bulletin A330-57-3081, Revision 05, including Appendix 01, dated November 13, 2012.

• Airbus Service Bulletin A330-57-3090, dated June 15, 2011.

• Airbus Service Bulletin A330-57-3098, dated August 30, 2007.

• Airbus Service Bulletin A330-57-3098, Revision 02, June 15, 2011.

• Airbus Service Bulletin A330-57-3098, Revision 03, including Appendix 01, dated September 24, 2014.

• Airbus Service Bulletin A330-57-3117, including Appendix 01, dated January 25, 2013.

• Airbus Service Bulletin A340-57-4089, Revision 05, including Appendix 01, dated November 13, 2012.

• Airbus Service Bulletin A340-57-4098, Revision 01, dated June 15, 2011.

• Airbus Service Bulletin A340-57-4106, dated August 30, 2007.

• Airbus Service Bulletin A340-57-4106, Revision 02, including Appendix 01, dated August 30, 2007.

• Airbus Service Bulletin A340-57-4106, Revision 03, including Appendix 01, dated September 24, 2012.

• Airbus Service Bulletin A340-57-4126, including Appendix 01, dated January 25, 2013.

This service information describes procedures for inspections for cracking of the hole(s) of the horizontal flange of the keel beam, and contacting the manufacturer for repair instructions. Additionally, this service information describes procedures for a one-time ultrasonic inspection for cracking at fastener hole “Nr 6,” and provides optional terminating action for the repetitive inspections.

The actions described in this service information are intended to correct the unsafe condition identified in the MCAI. This service information is reasonably available because the interested parties have access to it through their normal course of business or by the means identified in the ADDRESSES section of this NPRM.

Explanation of Compliance Time

The compliance time for the modification specified in this proposed AD for addressing widespread fatigue damage (WFD) was established to ensure that discrepant structure is modified before WFD develops in airplanes. Standard inspection techniques cannot be relied on to detect WFD before it becomes a hazard to flight. We will not grant any extensions of the compliance time to complete any AD-mandated service bulletin related to WFD without extensive new data that would substantiate and clearly warrant such an extension.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 35 airplanes of U.S. registry.

The actions that are required by AD 2011-24-05, Amendment 39-16869 (76 FR 73496, November 29, 2011), and retained in this proposed AD take about 41 work-hours per product, at an average labor rate of $85 per work hour. Required parts cost about $191 per product. Based on these figures, the estimated cost of the actions that are required by AD 2011-24-05 is $3,676 per product.

We also estimate that it would take about 23 work-hours per product to comply with the basic requirements of this proposed AD. The average labor rate is $85 per work-hour. Based on these figures, we estimate the cost of this proposed AD on U.S. operators to be $68,425, or $1,955 per product.

We have received no definitive data that would enable us to provide a cost estimate for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-24-05, Amendment 39-16869 (76 FR 73496, November 29, 2011), and adding the following new AD:

Airbus: Docket No. FAA-2015-0937; Directorate Identifier 2014-NM-024-AD.

(a) Comments Due Date

We must receive comments by June 18, 2015.

(b) Affected ADs

This AD replaces AD 2011-24-05, Amendment 39-16869 (76 FR 73496, November 29, 2011).

(c) Applicability

(1) This AD applies to the airplanes identified in paragraphs (c)(1)(i) and (c)(1)(ii) of this AD, certificated in any category, except as provided by paragraph (c)(2) of this AD.

(i) Airbus Model A330-201, -202, -203, -223, -243, -301, -302, -303, -321, -322, -323, -341, -342, and -343 airplanes, all serial numbers, except those on which Airbus modification 55306 or 55792 has been embodied in production.

(ii) Airbus Model A340-211, -212, -213, -311, -312, and -313 airplanes, all serial numbers, except those on which Airbus modification 55306 or 55792 has been embodied in production.

(2) This AD does not apply to Airbus Model A340-211, -212, -213, -311, -312, and -313 airplanes on which the repair specified in Airbus Repair Drawing R57115053, R57115051, or R57115047 (installation of titanium doubler on both sides) has been accomplished. AD 2007-12-08, Amendment 39-15086 (72 FR 31171, June 6, 2007), applies to these airplanes.

(d) Subject

Air Transport Association (ATA) of America Code 57, Wings.

(e) Reason

This AD was prompted by reports of cracks on the keel beam fitting and the front spar of the center wing box. This AD was also prompted by a determination that the rototest inspection and applicable corrective actions of fastener hole Nr 6 were inadvertently omitted from the requirements in AD 2011-24-05, Amendment 39-16869 (76 FR 73496, November 29, 2011). We are issuing this AD to detect and correct cracking of the fastener holes, which could result in rupture of the keel beam, and consequent reduced structural integrity of the airplane.

(f) Compliance

Comply with this AD within the compliance times specified, unless already done.

(g) Retained Non-Destructive Test (NDT) Inspection

This paragraph restates the requirements of paragraph (n) of AD 2011-24-05, Amendment 39-16869 (76 FR 73496, November 29, 2011), with new service information and revised credit for certain actions. At the applicable time in paragraph (g)(1) or (g)(2) of this AD, do an NDT inspection of the hole(s) of the horizontal flange of the keel beam located on frame (FR) 40 datum on the right-hand (RH) and/or left-hand (LH) side of the fuselage, in accordance with the Accomplishment Instructions of the applicable service information specified in paragraph (g)(3), (g)(4), (g)(5), or (g)(6) of this AD. Accomplishing an inspection required by paragraph (j) of this AD terminates the inspections required by this paragraph.

(1) For airplanes on which an inspection required by paragraph (h) of AD 2011-24-05, Amendment 39-16869 (76 FR 73496, November 29, 2011), has not been done as of January 3, 2012 (the effective date of AD 2011-24-05): At the applicable time specified in paragraph (g)(1)(i) or (g)(1)(ii) of this AD.

(i) For all airplanes except those identified in paragraph (g)(1)(ii) of this AD: Within the “Mandatory Threshold” (flight cycles or flight hours) specified in table 1 of paragraph 1.E.(2) of the Accomplishment Instructions of Airbus Service Bulletin A330-57-3081, including Appendix 01, Revision 04, dated May 31, 2011; or Airbus Service Bulletin A340-57-4089, including Appendix 01, Revision 04, dated May 31, 2011; as applicable; or within 3 months after January 3, 2012 (the effective date AD 2011-24-05, Amendment 39-16869 (76 FR 73496, November 29, 2011)); whichever occurs later. The compliance times for configurations 02 through 06 specified in the “Mandatory Threshold” column in table 1 of paragraph 1.E., “Compliance,” are total flight cycles and total flight hours.

(ii) For Model A330-201, -202, -203, -223, -243, -301, -321, -322, -323, -341, -342, and -343 airplanes, except those on which Airbus modification 49202 has been embodied in production, or Airbus Service Bulletin A330-57-3090 has been embodied in service, and Model A340-200 and -300 series airplanes, except those on which Airbus modification 49202 has been embodied in production or Airbus Service Bulletin A340-57-4098 has been embodied in service, and except Model A340-211, -212, -213, -311, -312, and -313 airplanes on which the repair specified in Airbus Repair Drawing R57115053, R57115051, or R57115047 has been accomplished: At the earlier of the times specified in paragraphs (g)(1)(ii)(A) and (g)(1)(ii)(B) of this AD.

(A) Within the “Mandatory Threshold” (flight cycles or flight hours) specified in table 1 of paragraph 1.E.(2) of Airbus Service Bulletin A340-57-4089, including Appendix 01, Revision 02, dated January 24, 2006; or Airbus Service Bulletin A330-57-3081, including Appendix 01, Revision 02, dated January 24, 2006; depending on the configuration of the aircraft model; or within 3 months after September 13, 2007, whichever occurs later. The compliance times for Model A330 post-mod. 41652 and pre-mod. 44360, post-mod. 44360, and pre-mod. 49202 (specified in Airbus Service Bulletin A330-57-3081, including Appendix 01, Revision 02, dated January 24, 2006); and Model A340 post-mod. 41652, post-mod. 43500 and pre-mod. 44360, post-mod. 44360 and pre-mod. 49202, and weight variant 027 (specified in Airbus Service Bulletin A340-57-4089, including Appendix 01, Revision 02, dated January 24, 2006); specified in the “Mandatory Threshold” column in table 1 of paragraph 1.E., “Compliance,” are total flight cycles and total flight hours.

(B) Within the “Mandatory Threshold” (flight cycles or flight hours) specified in table 1 of paragraph 1.E.(2) of the Accomplishment Instructions of Airbus Service Bulletin A330-57-3081, including Appendix 01, Revision 04, dated May 31, 2011; or Airbus Service Bulletin A340-57-4089, including Appendix 01, Revision 04, dated May 31, 2011; as applicable; or within 3 months after January 3, 2012 (the effective date of AD 2011-24-05, Amendment 39-16869 (76 FR 73496, November 29, 2011)); whichever occurs later. The compliance times for configurations 02 through 06 specified in the “Mandatory Threshold” column in table 1 of paragraph 1.E., “Compliance,” are total flight cycles and total flight hours.

(2) For airplanes on which an inspection required by paragraph (h) of AD 2011-24-05, Amendment 39-16869 (76 FR 73496, November 29, 2011), has been done as of January 3, 2012 (the effective date of AD 2011-24-05): At the earlier of the times specified in paragraphs (g)(2)(i) and (g)(2)(ii) of this AD.

(i) Within the “Mandatory Intervals” given in table 1 of paragraph 1.E.(2) of Airbus Service Bulletin A340-57-4089, including Appendix 01, Revision 02, dated January 24, 2006; or Airbus Service Bulletin A330-57-3081, including Appendix 01, Revision 02, dated January 24, 2006; as applicable.

(ii) Within the applicable “Mandatory Interval” specified in table 1 of Paragraph 1.E.(2). of Airbus Service Bulletin A330-57-3081, including Appendix 01, Revision 04, dated May 31, 2011,; or Airbus Service Bulletin A340-57-4089, including Appendix 01, Revision 04, dated May 31, 2011; as applicable; or within 3 months after January 3, 2012 (the effective date of AD 2011-24-05, Amendment 39-16869 (76 FR 73496, November 29, 2011)); whichever occurs later.

(3) Airbus Service Bulletin A330-57-3081, including Appendix 01, Revision 04, dated May 31, 2011.

(4) Airbus Service Bulletin A330-57-3081, including Appendix 01, Revision 05, dated November 13, 2012.

(5) Airbus Service Bulletin A340-57-4089, including Appendix 01, Revision 04, dated May 31, 2011.

(6) Airbus Service Bulletin A340-57-4089, Revision 05, including Appendix 01, dated November 13, 2012.

(h) Retained Repetitive Inspections

This paragraph restates the requirements of paragraph (p) of AD 2011-24-05, Amendment 39-16869 (76 FR 73496, November 29, 2011). If no cracking is found during any inspection required by paragraph (g) of this AD, do the actions required by paragraphs (h)(1) and (h)(2) of this AD.

(1) Before further flight: Install a new or oversized fastener, as applicable; seal the fastener; and do all other applicable actions; in accordance with the Accomplishment Instructions of the applicable service information specified in paragraph (g)(3), (g)(4), (g)(5), or (g)(6) of this AD.

(2) Repeat the inspection required by paragraph (g) of this AD thereafter at intervals not to exceed the “Mandatory Intervals” specified in Paragraph 1.E.(2). of Airbus Service Bulletin A330-57-3081, including Appendix 01, Revision 04, dated May 31, 2011; or Airbus Service Bulletin A340-57-4089, including Appendix 01, Revision 04, dated May 31, 2014; as applicable.

(i) Retained Corrective Action and Optional Modification

(1) This paragraph restates the requirements of paragraph (o) of AD 2011-24-05, Amendment 39-16869 (76 FR 73496, November 29, 2011), with revised method of compliance language. If any cracking is found during any inspection required by paragraph (g) of this AD, before further flight, repair using a method approved by the Manager, International Branch, ANM-116, Transport Airplane Directorate, FAA; or the European Aviation Safety Agency (EASA); or Airbus's EASA Design Organization Approval (DOA).

(2) This paragraph restates the requirements of paragraph (r) of AD 2011-24-05, Amendment 39-16869 (76 FR 73496, November 29, 2011), with new service information and revised method of compliance language. Modifying the fastener installation in the junction keel beam fitting at FR 40, as specified in paragraph (i)(2)(i), (i)(2)(ii), (i)(2)(iii), or (i)(2)(iv) of this AD, as applicable, terminates the requirements of paragraphs (g) and (h) of this AD; except, for airplanes on which a crack was detected at hole 5 before oversizing of the keel beam, in accordance with step 3.B.(1)(b)3 of the Accomplishment Instructions of Airbus Service Bulletin A330-57-3098, dated August 30, 2007; or Airbus Service Bulletin A340-57-4106, dated August 30, 2007; or in accordance with step 3.C.(2)(c) of the Accomplishment Instructions of Airbus Service Bulletin A330-57-3098, Revision 03, including Appendix 01, dated September 24, 2012, or Airbus Service Bulletin A340-57-4106, Revision 03, including Appendix 01, dated September 24, 2012; before further flight, repair using a method approved by the Manager, International Branch, ANM-116, Transport Airplane Directorate, FAA; or EASA; or Airbus's EASA DOA. In case of any crack finding during any modification specified in this paragraph: Where the service information specifies to contact Airbus, before further flight, repair using a method approved by the Manager, International Branch, ANM-116, Transport Airplane Directorate, FAA; or EASA; or Airbus's EASA DOA.

(i) Modification in accordance with Airbus Service Bulletin A330-57-3098, dated August 30, 2007, before January 3, 2012 (the effective date of AD 2011-24-05, Amendment 39-16869 (76 FR 73496, November 29, 2011)).

(ii) Modification in accordance with Airbus Service Bulletin A330-57-3098, Revision 03, including Appendix 01, dated September 24, 2012, before the effective date of this AD.

(iii) Modification in accordance with Airbus Service Bulletin A340-57-4106, dated August 30, 2007, before January 3, 2012 (the effective date of AD 2011-24-05, Amendment 39-16869 (76 FR 73496, November 29, 2011)).

(iv) Modification in accordance with Airbus Service Bulletin A340-57-4106, Revision 03, including Appendix 01, dated September 24, 2012, before the effective date of this AD.

(j) New Repetitive Rotating Probe Inspections

At the applicable times specified in paragraphs (j)(1) and (j)(2) of this AD: Do a rotating probe inspection for cracking of the fastener hole(s) of the horizontal flange of the keel beam located on FR 40 datum on the RH and LH side of the fuselage, as applicable to airplane type and depending on airplane configuration and utilization, in accordance with the Accomplishment Instructions of Airbus Service Bulletin A330-57-3081, Revision 05, including Appendix 01, dated November 13, 2012; or Airbus Service Bulletin A340-57-4089, Revision 05, including Appendix 01, dated November 13, 2012; as applicable. Repeat the inspection thereafter at intervals not to exceed the “Mandatory Intervals” specified in Paragraph 1.E.(2)., of the Accomplishment Timescale of Airbus Service Bulletin A330-57-3081, Revision 05, including Appendix 01, dated November 13, 2012; or Airbus Service Bulletin A340-57-4089, Revision 05, including Appendix 01, dated November 13, 2012; as applicable. Accomplishing an inspection required by this paragraph terminates the inspections required by paragraph (g) of this AD.

(1) For airplanes on which the inspection required by paragraph (g) of this AD has not been done as of the effective date of this AD: Do the inspection before exceeding the applicable compliance times specified in the “mandatory threshold” column of the tables in paragraph 1.E.(2)., of the Accomplishment Timescale of Airbus Service Bulletin A330-57-3081, Revision 05, including Appendix 01, dated November 13, 2012; or Airbus Service Bulletin A340-57-4089, Revision 05, including Appendix 01, dated November 13, 2012; as applicable; or within 12 months after the effective date of this AD; whichever occurs later.

(2) For airplanes on which the inspection required by paragraph (g) of this AD has been done as of the effective date of this AD: Do the inspection within the applicable compliance times specified in the “mandatory interval” column of the tables in paragraph 1.E.(2)., of the Accomplishment Timescale of Airbus Service Bulletin A330-57-3081, Revision 05, including Appendix 01, dated November 13, 2012; or Airbus Service Bulletin A340-57-4089, Revision 05, including Appendix 01, dated November 13, 2012; as applicable; or within 12 months after the effective date of this AD; whichever occurs later.

(k) Credit for Previous Actions

(1) This paragraph provides credit for the initial rotating probe inspection that is part of the inspections required by paragraphs (g) and (j)(1) of this AD, if those actions were performed before the effective date of this AD using the service information specified in paragraph (k)(1)(i) or (k)(1)(ii) of this AD.

(i) Airbus Technical Disposition F57D03012810, Issue B, dated August 18, 2003.

(ii) Airbus Technical Disposition 582.0651/2002, Issue A, dated October 17, 2002.

(2) This paragraph restates the credit for the actions specified in paragraph (k) of AD 2011-24-05, Amendment 39-16869 (76 FR 73496, November 29, 2011), if those actions were performed before January 3, 2012 (the effective date of AD 2011-24-05), using the service information specified in paragraphs (k)(2)(i) through (k)(2)(viii) of this AD.

(i) Airbus Service Bulletin A330-57-3081, dated October 30, 2003.

(ii) Airbus Service Bulletin A330-57-3081, Revision 01, dated May 18, 2004.

(iii) Airbus Service Bulletin A330-57-3081, Revision 02, including Appendix 01, dated January 24, 2006.

(iv) Airbus Mandatory Service Bulletin A330-57-3081, Revision 03, dated July 31, 2009.

(v) Airbus Service Bulletin A340-57-4089, dated October 30, 2003.

(vi) Airbus Service Bulletin A340-57-4089, Revision 01, dated March 2, 2004.

(vii) Airbus Service Bulletin A340-57-4089, Revision 02, including Appendix 01, dated January 24, 2006.

(viii) Airbus Mandatory Service Bulletin A340-57-4089, Revision 03, dated July 31, 2009.

(l) New One-Time Ultrasonic Inspection

For airplanes in Configuration 2, as defined in the applicable service information identified in paragraph (l)(3), (l)(4), (l)(5), or (l)(6) of this AD, on which the modification has been done as of the effective date of this AD in accordance with the Accomplishment Instructions of the applicable service information identified in paragraph (l)(3), (l)(4), (l)(5), or (l)(6) of this AD; as applicable to airplane type; and on which fastener hole “Nr 5” has been bushed before embodiment of Airbus Service Bulletin A330-57-3098, or Airbus Service Bulletin A340-57-4106, as applicable; or on which a crack has been found on fastener hole “Nr 5” during embodiment of Airbus Service Bulletin A330-57-3098, or Airbus Service Bulletin A340-57-4106, as applicable: At the applicable time specified in paragraph (l)(1) or (l)(2) of this AD, do a one-time ultrasonic inspection for cracking at fastener hole “Nr 6” in the junction keel beam fitting at FR 40 LH and RH sides, in accordance with the Accomplishment Instructions of Airbus Service Bulletin A330-57-3117, including Appendix 01, dated January 25, 2013; or Airbus Service Bulletin A340-57-4126, including Appendix 01, dated January 25, 2013; as applicable.

(1) For Model A330-201, -202, -203, -223, -243, -301, -321, -322, -323, -341, -342, and -343 airplanes: At the later of the times specified in paragraphs (l)(1)(i) and (l)(1)(ii) of this AD.

(i) At the applicable time specified in paragraph 1.E.(2)., of the Accomplishment Timescale of Airbus Service Bulletin A330-57-3117, including Appendix 01, dated January 25, 2013.

(ii) Within 2,400 flight cycles or 24 months after the effective date of this AD, whichever occurs first.

(2) For Model A340-211, -212, -213, -311, -312, and -313 airplanes: At the later of the times specified in paragraphs (l)(2)(i) and (l)(2)(ii) of this AD.

(i) At the applicable time specified in paragraph 1.E.(2)., of the Accomplishment Timescale of Airbus Service Bulletin A340-57-4126, including Appendix 01, dated January 25, 2013.

(ii) Within 1,300 flight cycles or 24 months after the effective date of this AD, whichever occurs first.

(3) Airbus Service Bulletin A330-57-3098, Revision 01, dated July 31, 2009.

(4) Airbus Service Bulletin A330-57-3098, Revision 02, dated June 15, 2011.

(5) Airbus Service Bulletin A340-57-4106, Revision 01, dated July 31, 2009.

(6) Airbus Service Bulletin A340-57-4106, Revision 02, dated June 15, 2011.

(m) Corrective Actions

(1) If no cracking is found during any inspection required by paragraph (j) of this AD, before further flight: Install new or oversized fastener, as applicable; seal the fastener; and do all other applicable corrective actions; in accordance with the Accomplishment Instructions of Airbus Service Bulletin A330-57-3081, Revision 05, including Appendix 01, dated November 13, 2012; or Airbus Service Bulletin A340-57-4089, Revision 05, including Appendix 01, dated November 13, 2012; as applicable. Thereafter, repeat the inspection required by paragraph (j) of this AD at intervals not to exceed the “Mandatory Intervals” specified in Paragraph 1.E.(2)., of the Accomplishment Timescale of Airbus Service Bulletin A330-57-3081, Revision 05, including Appendix 01, dated November 13, 2012; or Airbus Service Bulletin A340-57-4089, Revision 05, including Appendix 01, dated November 13, 2012; as applicable.

(2) If any crack is found during any inspection required by paragraph (j) or (l) of this AD; before further flight, repair using a method approved by the Manager, International Branch, ANM-116, Transport Airplane Directorate, FAA; or EASA; or Airbus's EASA DOA. If approved by the DOA, the approval must include the DOA-authorized signature.

(n) Airplanes Excluded From Certain Requirements

(1) For airplanes on which a rototest was done at fastener hole Nr 6 before cold working of the fastener hole during accomplishment of the actions specified in the applicable service information identified in paragraph (n)(1)(i), (n)(1)(ii), (n)(1)(iii), or (n)(1)(iv) of this AD: The ultrasonic inspection specified in paragraph (l) of this AD is not required.

(i) Airbus Service Bulletin A330-57-3098, Revision 01, dated July 31, 2009.

(ii) Airbus Service Bulletin A330-57-3098, Revision 02, dated June 15, 2011.

(iii) Airbus Service Bulletin A340-57-4106, Revision 01, dated June 31, 2009.

(iv) Airbus Service Bulletin A340-57-4106, Revision 02, dated June 15, 2011.

(2) For airplanes that have been modified as of the effective date of this AD in accordance with the Accomplishment Instructions of the applicable service information identified in paragraph (n)(1)(i), (n)(1)(ii), (n)(1)(iii), or (n)(1)(iv) of this AD: No action is required by this paragraph, except as otherwise required by paragraph (l) of this AD and, provided that if any crack was found during any modification specified in this paragraph and the service information specified to contact Airbus, repair was done before further flight using a method approved by the Manager, International Branch, ANM-116, Transport Airplane Directorate, FAA; or EASA; or Airbus's EASA DOA. If approved by the DOA, the approval must include the DOA-authorized signature.

(o) Optional Terminating Actions

(1) Modification of an airplane in accordance with the Accomplishment Instructions of the applicable service information identified in paragraph (o)(1)(i), (o)(1)(ii), (o)(1)(iii), (o)(1)(iv), (o)(1)(v), or (o)(1)(vi) of this AD; as applicable to airplane type and depending on airplane configuration; terminates the requirements of this AD, provided that in case of any crack finding during any modification specified in this paragraph, and the service information specifies to contact Airbus, repair is done before further flight, using a method approved by the Manager, International Branch, ANM-116, Transport Airplane Directorate, FAA; or EASA; or Airbus's EASA DOA. If approved by the DOA, the approval must include the DOA-authorized signature

(i) Airbus Service Bulletin A330-57-3090, dated March 27, 2006.

(ii) Airbus Service Bulletin A330-57-3090, Revision 01, dated June 15, 2011.

(iii) Airbus Service Bulletin A330-57-3098, Revision 03, including Appendix 01, dated September 24, 2012.

(iv) Airbus Service Bulletin A340-57-4098, dated March 27, 2006.

(v) Airbus Service Bulletin A340-57-4098, Revision 01, dated June 15, 2011.

(vi) Airbus Service Bulletin A340-57-4106, Revision 03, including Appendix 01, dated September 24, 2012.

(2) Accomplishment of the ultrasonic inspection required by paragraph (l) of this AD and all applicable corrective actions required by paragraph (m) of this AD terminates the requirements of this AD for those airplanes.

(p) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) AMOCs approved previously for AD 2011-24-05, Amendment 39-16869 (76 FR 73496, November 29, 2011), are approved as AMOCs for the corresponding provisions of this AD.

(3) Contacting the Manufacturer: As of the effective date of this AD, for any requirement in this AD to obtain corrective actions from a manufacturer, the action must be accomplished using a method approved by the Manager, International Branch, ANM-116, Transport Airplane Directorate, FAA; or EASA; or Airbus's EASA DOA. If approved by the DOA, the approval must include the DOA-authorized signature.

(q) Related Information

(1) Refer to Mandatory Continuing Airworthiness Information (MCAI) EASA Airworthiness Directive 2014-0010R1, dated May 5, 2014, for related information. This MCAI may be found in the AD docket on the Internet at http://www.regulations.gov by searching for and locating Docket No. FAA-2015-0937.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on April 13, 2015.
Michael Kaszycki,
Acting Manager, Transport Airplane Directorate, Aircraft Certification Service.

[FR Doc. 2015-10177 Filed 5-1-15; 8:45 am]

BILLING CODE 4910-13-P